DEPARTMENT OF STATE

[Public Notice: 7335]

Notice of Availability of Report Commissioned by Department of Energy Entitled “Keystone XL Assessment” Regarding the Proposed TransCanada Keystone XL Project

Notice is hereby given that the Department of State received on January 31, 2011, a report commissioned by the Department of Energy entitled “Keystone XL Assessment.” The report examines the possible effect of the proposed Keystone XL Pipeline on U.S. and global oil markets. We will consider this report, as well as contributions from the public and other interested agencies, in our decision-making process on TransCanada Keystone Pipeline, LP's (TransCanada) application for a Presidential permit for the Keystone XL Project. We will be requesting public comment on this report at an appropriate time. The report is available under “Petroleum Market Impacts of the Keystone XL Pipeline Project” on the “State Dept. Documents” page of our Web site at http://www.keystonepipeline-xl.state.gov.

On September 19, 2008, TransCanada filed an application for a Presidential permit for the construction, operation, and maintenance of pipeline facilities at the border of the U.S. and Canada for the transport of crude oil across the U.S.-Canada international boundary. The Secretary of State is designated and empowered to receive all applications for Presidential permits, under Executive Order 13337, as amended, for the construction, connection, operation, or maintenance, at the borders of the United States, of facilities for the exportation or importation of petroleum, petroleum products, coal, or other fuels to or from a foreign country. TransCanada has requested authorization to construct and operate border crossing facilities at the U.S.-Canadian border in Phillips County, near Morgan, Montana, in connection with its proposed international pipeline project (the Keystone XL Pipeline Project) that is designed to transport Canadian crude oil production from the Western Canadian Sedimentary Basin (WCSB) to destinations in the south central United States, including to an existing oil terminal in Cushing, Oklahoma, and to existing delivery points in the Port Arthur and East Houston areas of Texas.

On April 20, 2010, the State Department published a draft Environmental Impact Statement (EIS) and provided for public comment on that draft EIS until July 2, 2010. The State Department is currently reviewing the comments received in response to that notice and will not make a decision related to the Keystone XL pipeline until it has completed that review. A final decision on whether the Department will approve or not approve the Keystone XL pipeline will only be made after the Department has completed all of its review processes.

DATES: The Department of State will be requesting public comment on this report at an appropriate time.

FOR FURTHER INFORMATION CONTACT: For information regarding environmental concerns and permitting, contact Alexander Yuan at (202) 647-4284; or by email at YuanAW@State.gov.

Dated: February 3, 2011.
Willem H. Brakel,
Director, Office of Environmental Policy, Bureau of Oceans and International Environmental and Scientific Affairs, Department of State.

[FR Doc. 2011-3251 Filed 2-11-11; 8:45 am]

BILLING CODE 4710-09-P